DEPARTMENT OF TRANSPORTATION

Federal Aviation Administration

14 CFR Parts 21 and 25

[Docket No. FAA-2023-1383]

Draft Policy Statement Regarding Classification of Type Design Changes That Would Materially Alter Safety Critical Information as Major Type Design Changes

AGENCY: Federal Aviation Administration (FAA), DOT.

ACTION: Notification of availability; request for comments.

SUMMARY: A draft policy statement would state that proposed type design changes that would materially alter safety critical information have the potential to affect airworthiness, and therefore do not qualify as minor design changes.

DATES: Comments on the draft policy statement must be received on or before August 25, 2023.

ADDRESSES: Send comments with the subject line, “Classification of Type Design Changes That Would Materially Alter Safety Critical Information as Major Type Design Changes” identified by docket number FAA-2023-1383, using the following method:

• Federal eRegulations Portal: Go to https://www.regulations.gov and follow the online instructions for sending your comments electronically.

• Mail: Send comments to Docket Operations, M-30, U.S. Department of Transportation (DOT), 1200 New Jersey Avenue SE, Room W12-140, West Building Ground Floor, Washington, DC 20590-0001.

• Hand Delivery of Courier: Take comments to Docket Operations in Room W12-140 of the West Building Ground Floor at 1200 New Jersey Avenue SE, Washington, DC, between 9 a.m., and 5 p.m., Monday through Friday, except Federal holidays.

• Fax: Fax comments to Docket Operations at 202-493-2251.

Privacy: In addition to the final policy statement, the FAA will post all comments it receives, without change, to https://www.regulations.gov/, including any personal information the commenter provides. DOT's complete Privacy Act Statement can be found in the Federal Register published on April 11, 2000 (65 FR 19477-19478), as well as at https://DocketsInfo.dot.gov.

FOR FURTHER INFORMATION CONTACT: Sue McCormick, Product Policy Management: Systems Standards Section, AIR-63A, Organization and Systems Policy Branch, Policy and Standards Division, Aircraft Certification Service, by email at susan.mccormick@faa.gov, or by phone at (206) 231-3242.

SUPPLEMENTARY INFORMATION:

Discussion

Section 105(a) of the Aircraft Certification, Safety, and Accountability Act, Public Law 116-260 (the Act), defines five categories of “safety critical information” and instructs the FAA to take a variety of actions related to the submittal of such information by applicants for, or holders of, type certificates for transport category airplanes. These five categories of information all relate to the airplane's airworthiness characteristics. A proposed design change that would have an appreciable effect on an airworthiness characteristic of a product must be evaluated as a major, rather than minor, change. 14 CFR 21.93, 21.95, and 21.97. Therefore, the FAA plans to issue a policy statement stating that a proposed design change to a transport category airplane that would materially alter safety critical information would have an appreciable affect on the airplane's airworthiness, and therefore would not qualify as a minor change. A draft of the policy statement may be examined in the docket and at https://www.faa.gov/aircraft/draft_docs.

Comments Invited

The FAA invites the public to submit comments on the draft policy statement, as specified in the ADDRESSES section of this notification. Commenters should include the subject line, “Classification of Type Design Changes That Would Materially Alter Safety Critical Information as Major Type Design Changes” and the docket number on all comments submitted to the FAA. The most helpful comments will reference a specific recommendation, explain the reason for any recommended change, and include supporting information. The FAA will consider all comments received on or before the closing date, before issuing the final policy statement. The FAA will also consider late-filed comments if it is possible to do so without incurring expense or delay.

Issued in Washington, DC.
Brian Cable,
Manager, Organization and Systems Policy Branch, Policy and Standards Division, Aircraft Certification Service.

[FR Doc. 2023-15853 Filed 7-25-23; 8:45 am]

BILLING CODE 4910-13-P